DEPARTMENT OF COMMERCE

International Trade Administration

[A-533-809]

Certain Stainless Steel Flanges From India; Extension of Time Limit for Preliminary Results of New Shipper Review

AGENCY: Import Administration, International Trade Administration, Department of Commerce.

SUMMARY: The Department of Commerce (the Department) is extending the time limit for the preliminary results of a new shipper review of certain stainless steel flanges from India. This review covers one Indian exporter, Snowdrop Trading PVT LTD (Snowdrop), and the period February 1, 1999 through February 29, 2000.

EFFECTIVE DATE: October 5, 2000.

FOR FURTHER INFORMATION CONTACT: Thomas Killiam or Robert James, AD/CVD Enforcement, Import Administration, International Trade Administration, U.S. Department of Commerce, 14th Street and Constitution Avenue, NW., Washington DC 20230; telephone: (202) 482-5222, or (202) 482-0649, respectively.

Applicable Statute

Unless otherwise indicated, all citations to the statute refer to the provisions effective January 1, 1995, the effective date of the amendments made to the Tariff Act of 1930 (the Act) by the Uruguay Round Agreements Act. In addition, all citations to the Department's regulations are to the current regulations, codified at 19 CFR part 351 (1999).

Background

Based on a request from Snowdrop, and pursuant to section 351.214, on March 28, 2000 the Department initiated a new shipper review of the antidumping duty order on certain stainless steel flanges from India, covering the period February 1, 1999 through February 29, 2000 ( 65 FR 17485, April 3, 2000). The preliminary results are currently due no later than September 24, 2000.

Postponement of Preliminary Results

The Department has determined that the issues of this case are extraordinarily complicated and consequently, it is not practicable to issue the preliminary results of review within the original time limit. See Memorandum from Richard A. Weible to Joseph A. Spetrini, Deputy Assistant Secretary, Enforcement Group III, September 22, 2000. Accordingly, the Department is extending the time limit for completion of the preliminary results until January 22, 2001, in accordance with section 751(a)(2)(B)(iv) of the Act and section 351.214(i)(2) of the Department's regulations. The deadline for the final results of this review will continue to be 90 days after date on which the preliminary results are issued, in accordance with section 351.214(i)(1).

Dated: September 22, 2000.
Joseph A. Spetrini,
Deputy Assistant Secretary, AD/CVD Enforcement Group III.

[FR Doc. 00-25620 Filed 10-4-00; 8:45 am]

BILLING CODE 3510-DS-P